DEPARTMENT OF AGRICULTURE

Forest Service

East Side Project, McKean, Elk and Forest Counties, PA

AGENCY: Forest Service, USDA.

ACTION: Revised notice of intent to prepare an environmental impact statement.

SUMMARY: Reference is made to our notice of intent to prepare an environmental impact statement for the East Side Project (FR Document 98-10895 filed 4/23/98) published in the Federal Register, Volume 63, No. 79, Friday, April 24, 1998, pages 20368-69.

In accordance with Forest Service Environmental Policy and Procedures handbook 1909.15, part 21.2—Revision of Notices of Intent, we are revising the date that the Draft Environmental Impact Statement is expected to be filed with the Environmental Protection Agency and be available for public review and comment to April 10, 2000. Subsequently, the date the final EIS is scheduled to be completed is revised to be August 1, 2000.

FOR FURTHER INFORMATION CONTACT: Gary W. Kell, Allegheny National Forest at P.O. Box 847, Warren, PA 16365 or by telephone at 814/723-5150.

Dated: March 14, 2000.
John E. Palmer,
Forest Supervisor.

[FR Doc. 00-7018 Filed 3-21-00; 8:45 am]

BILLING CODE 3410-11-M